DEPARTMENT OF THE TREASURY

Internal Revenue Service

26 CFR Part 301

[REG-116215-07]

RIN-1545-BG60

Public Inspection of Material Relating to Tax-Exempt Organizations; Correction

AGENCY: Internal Revenue Service, Treasury.

ACTION: Correction to notice of proposed rulemaking.

SUMMARY: This document contains corrections to proposed regulations that amend existing regulations issued under sections 6104 and 6110. These regulations clarify rules relating to information that is made available by the IRS for public inspection under section 6104(a) and materials that are made publicly available under section 6110.

FOR FURTHER INFORMATION CONTACT: Mary Ellen Keys, (202) 622-4570 (not a toll-free number).

SUPPLEMENTARY INFORMATION:

Background

The notice of proposed rulemaking (REG-116215-07) that is the subject of these corrections are under sections 6110 and 6104(a) of the Internal Revenue Code.

Need for Correction

As published, this notice of proposed rulemaking (REG-116215-07) contains errors that may prove to be misleading and are in need of clarification.

Correction of Publication

Accordingly, the notice of proposed rulemaking (REG-116215-07) that was the subject of FR. Doc. E7-15952 is corrected as follows:

1. On page 45394, column 2, in the preamble, under the caption heading “SUMMARY:”, line 11 from the bottom of the paragraph, the language “denied or revoked an organization's tax” is corrected to read “denied or revoked an organization's tax-”.

2. On page 45394, column 2, in the preamble, under the caption heading “ADDRESSES:”, line 2 from the bottom of the column, the language “NW., Washington, DC, or sent” is corrected to read “NW., Washington, DC 20224, or sent”.

3. On page 45394, column 3, in the preamble, under the paragraph heading “Background”, paragraph 2, line 7, the language “tax exempt status from the public” is corrected to read “tax-exempt status from the public”.

4. On page 45395, column 1, in the preamble, line 7 from the bottom of the first paragraph of the column, the language “public. See AOD 2004-02, 2004-29 IRB is corrected to read “See AOD 2004-2, 2004-29 I.R.B.”.

5. On page 45395, column 1, in the preamble, under the paragraph heading “Explanation of Provisions”, line 4 from the bottom of paragraph 1, the language “sections 509(a), 4942(j)(3), or 4943(f), is corrected to read “section 509(a), 4942(j)(3), or 4943(f),”.

6. On page 45395, column 2, in the preamble, under the paragraph heading “Other Changes to the Existing Regulations”, paragraph 6, line 3, the language “disclose, in response to or anticipation” is corrected to read “in response to or in anticipation”.

7. On page 45395, column 2, in the preamble, under the paragraph heading “Other Changes to the Existing Regulations”, paragraph 7, line 5 from the bottom of the column, the language “organizations whose tax exempt status” is corrected to read “organizations whose tax-exempt status”.

§ 301.6104(a)-1 [Corrected]

8. On page 45396, column 2, § 301.6104(a)-1(c)(4), line 4, the language “organization described in sections” is corrected to read “organization described in section”.

9. On page 45396, column 3, § 301.6104(a)-1(c)(2), line 4 from the bottom of the paragraph, the language “Procedure 2007-52, 2007-30 IRB 222, is corrected to read “Procedure 2007-52, 2007-30 I.R.B. 222,”.

10. On page 45396, column 3, § 301.6104(a)-1(e)(3), line 4 from the bottom of the paragraph, the language “Procedure 80-27, 1980-1CB 677, and” is corrected to read “Procedure 80-27, 1980-1 C.B. 677, and”.

La Nita Van Dyke,
Branch Chief, Publications and Regulations Branch, Legal Processing Division, Associate Chief Counsel (Procedure and Administration).

[FR Doc. E7-18990 Filed 9-25-07; 8:45 am]

BILLING CODE 4830-01-P